DEPARTMENT OF THE INTERIOR

Bureau of Ocean Energy Management

[Docket No. BOEM-2016-0049]

Environmental Assessment for Commercial Wind Leasing and Site Assessment Activities on the Outer Continental Shelf (OCS) Offshore the Island of Oahu, Hawaii; Extension of Comment Period MMAA104000

AGENCY: Bureau of Ocean Energy Management (BOEM), Interior.

ACTION: Extension of Comment Period.

SUMMARY: BOEM is extending the comment period for the Notice of Intent entitled, “Environmental Assessment for Commercial Wind Leasing and Site Assessment Activities on the Outer Continental Shelf (OCS) Offshore the Island of Oahu, Hawaii,” which appeared in the Federal Register on June 24, 2016, (81 FR 41334). The Environmental Assessment will address environmental impacts and socioeconomic effects related to the issuance of future commercial wind energy leases and approval of site assessment activities on those leases offshore the island of Oahu, Hawaii. The comment period has been extended an additional 30 days to September 7, 2016.

DATES: Comments should be submitted no later than September 7, 2016.

FOR FURTHER INFORMATION CONTACT: Mark Eckenrode, Bureau of Ocean Energy Management, Pacific OCS Region, 760 Paseo Camarillo, Suite 102, Camarillo, California 93010, (805) 384-6388, or mark.eckenrode@boem.gov.

ADDRESSES: Federal, State, and local governments, Native Hawaiians, and the public are requested to send their written comments regarding environmental issues and the identification of reasonable alternatives related to the proposed action described in this notice through one of the following methods:

1. Federal eRulemaking Portal: http://www.regulations.gov. In the field entitled, “Enter Keyword or ID,” enter BOEM-2016-0049, and then click “search.” Follow the instructions to submit public comments and view supporting and related materials available for this notice; or

2. U.S. mail in an envelope labeled “Comments on Hawaii EA” and addressed to Regional Director, BOEM Pacific OCS Region, 760 Paseo Camarillo, Suite 102, Camarillo, California 93010. Comments must be postmarked by the last day of the comment period to be considered. This date is September 7, 2016.

Before including your address, phone number, email address, or other personal identifying information in your comment, you should be aware that your entire comment, including your personal identifying information, may be made publicly available at any time. While you can ask us in your comments to withhold your personal identifying information from public review, we cannot guarantee that we will be able to do so.

Dated: July 28, 2016.
Abigail Ross Hopper,
Director, Bureau of Ocean Energy Management.

[FR Doc. 2016-18528 Filed 8-3-16; 8:45 am]

BILLING CODE 4310-MR-P